DEPARTMENT OF THE INTERIOR

U.S. Geological Survey

[GX14RN00EAA0100]

Agency Information Collection Activities: Request for Comments

AGENCY: U.S. Geological Survey (USGS), Interior.

ACTION: Notice of a revision of a currently approved information collection (1028-0100).

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC. This collection is scheduled to expire on December 31, 2014.

DATES: To ensure that your comments are considered, we must receive them on or before October 27, 2014.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028-0100, Did You See it?—Report a Landslide' in all correspondence.

FOR FURTHER INFORMATION CONTACT: Rex Baum by mail at U.S. Geological Survey, Denver Federal Center, Box 25046, M.S. 966, Denver, CO 80225-0046, or by telephone at 303-273-8610.

SUPPLEMENTARY INFORMATION:

I. Abstract

The objective of this collection is to build better inventories of landslides through citizen participation. This project will make it possible for the public to report their observations of landslides on a USGS-hosted Web site. The information gathered through the on-line database will be used to classify the landslides and damage, as well as provide information to scientists about the location, time, speed, and size of the landslides. The USGS Landslide Hazards Program has developed an interactive Web site for public reporting of landslides.

II. Data

OMB Control Number: 1028-0100.

Form Number: http://landslides.usgs.gov/dysi/form.php.

Title: Did you see it? Report a Landslide.

Type of Request: New information collection.

Affected Public: General Public.

Respondent's Obligation: None. Participation is voluntary.

Frequency of Collection: On occasion, after a landslide.

Estimated Total Number of Annual Responses: 2,000.

Estimated Time per Response: 5 minutes.

Estimated Annual Burden Hours: 167.

Estimated Reporting and Recordkeeping “Non-Hour Cost” Burden: There are no “non-hour cost” burdens associated with this IC.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Martha G. Brooks,
Signing Official, Chief of Staff, Natural Hazards Mission Area.

[FR Doc. 2014-20186 Filed 8-25-14; 8:45 am]

BILLING CODE 4311-AM-P